DEPARTMENT OF ENERGY

Federal Energy Regulatory Commission

[Docket No. EC00-105-000, et al.]

Atlantic City Electric Company, et al.; Electric Rate and Corporate Regulation Filings

June 23, 2000.

Take notice that the following filings have been made with the Commission:

1. Atlantic City Electric Company; Baltimore Gas and Electric Company; Delmarva Power & Light Company; Jersey Central Power & Light Company; Metropolitan Edison Company; PECO Energy Company; Pennsylvania Electric Company; Potomac Electric Power Company; PPL Electric Utilities Corporation; Public Service Electric and Gas Company; and PJM Interconnection, L.L.C.

[Docket No. EC00-105-000]

Take notice that on June 19, 2000, Atlantic City Electric Company, Baltimore Gas and Electric Company, Delmarva Power & Light Company, Jersey Central Power & Light Company, Metropolitan Edison Company, PECO Energy Company, Pennsylvania Electric Company, Potomac Electric Power Company, PPL Electric Utilities Corporation, Public Service Electric and Gas Company and PJM Interconnection, L.L.C. filed with the Commission a Joint Application for Authorization to Transfer Jurisdictional Facilities.

Comment date: July 19, 2000, in accordance with Standard Paragraph E at the end of this notice.

2. Dominion Resources, Inc. and Consolidated Natural Gas Company; Dominion Transmission, Inc.

[Docket Nos. EC99-81-003 and MG00-6-002]

Take notice that on June 16, 2000, Dominion Resources, Inc. (Dominion) and Dominion Transmission, Inc. (DTI), the successor of CNG Transmission, Inc. (CNGT), submitted a filing in compliance with the Federal Energy Regulatory Commission's (Commission) May 17, 2000, “Order on Compliance Filing,” which imposed conditions on the Commission's approval of the merger of Dominion and Consolidated Natural Gas Company (CNG), and the related “Order on Standards of Conduct.”

The Applicants request a delayed effective date on their compliance filing whereby the new restrictions on their operations become effective on September 1, 2000. The companies state that they will file an implementation plan by August 1, 2000.

Comment date: August 21, 2000, in accordance with Standard Paragraph E at the end of this notice.

3. Entergy Power Marketing Corp. and Koch Energy Trading, Inc.

[Docket No. EC00-106-000]

Take notice that on June 21, 2000, Entergy Power Marketing Corp. and Koch Energy Trading, Inc. submitted a joint application requesting all necessary authorizations under Section 203 of the Federal Power Act to merge, consolidate and organize their jurisdictional facilities to form a new company referred to as Newco.

A copy of this notice was served on the Arkansas Public Service Commission, Louisiana Public Service Commission, Mississippi Public Service Commission, Texas Public Utility Commission and the Council of the City of New Orleans.

Comment date: August 21, 2000, in accordance with Standard Paragraph E at the end of this notice.

4. Wisconsin Public Service Corporation

[Docket No. ER00-2893-000]

Take notice that on June 19, 2000, Wisconsin Public Service Corporation (WPSC), tendered for filing an executed Service Agreement with Public Service of Colorado providing for transmission service under FERC Electric Tariff, Volume No. 1.

Comment date: July 10, 2000, in accordance with Standard Paragraph E at the end of this notice.

5. New England Power Pool

[Docket No. ER00-2894-000]

Take notice that on June 19, 2000, the New England Power Pool (NEPOOL) Participants Committee submitted the Fifty-Sixth Agreement Amending the New England Power Pool Agreement (Fifty-Sixth Agreement), which changes the rate of interest that accrues on the unamortized portion of the Early Restructuring Expense under Section 19.3 of the Restated NEPOOL Agreement.

The NEPOOL Participants Committee states that copies of these materials were sent to the NEPOOL Participants and the six New England state governors and regulatory commissions.

Comment date: July 10, 2000, in accordance with Standard Paragraph E at the end of this notice.

6. Southwest Power Pool, Inc.

[Docket No. ER00-2895-000]

Take notice that on June 20, 2000, Southwest Power Pool, Inc. (SPP), tendered for filing executed service agreements for Firm Point-to-Point Transmission Service, Non-Firm Point-to-Point Transmission Service and Loss Compensation Service with Allegheny Energy Supply Company, LLC (Allegheny), NRG Power Marketing Inc. (NRG), and Otter Tail Power Company (Otter Tail), and executed service agreements for Non-Firm Point-to-Point Transmission Service and Loss Compensation Service with Minnesota Power, Inc. (Minnesota Power) (collectively, the Transmission Customers).

SPP seeks an effective date of June 13, 2000 for each of the service agreements with Allegheny, an effective date of May 25, 2000 for each of the agreements with NRG and Minnesota Power, and June 1, 2000, for each of the service agreements with Otter Tail.

Copies of this filing were served upon the Transmission Customers.

Comment date: July 11, 2000, in accordance with Standard Paragraph E at the end of this notice.

7. Madison Gas and Electric Company

[Docket No. ER00-2896-000]

Take notice that on June 20, 2000, Madison Gas and Electric Company (MGE), tendered for filing a service agreement under MGE's Market-Based Power Sales Tariff with Cargill-Alliant LLC.

MGE requests this agreement be effective the date the agreement was filed with the FERC.

Comment date: July 11, 2000, in accordance with Standard Paragraph E at the end of this notice.

8. Louisville Gas and Electric Company/Kentucky Utilities Company

[Docket No. ER00-2897-000]

Take notice that on June 20, 2000, Louisville Gas and Electric Company (LG&E)/Kentucky Utilities (KU) (hereinafter Companies), tendered for filing an unexecuted unilateral Service Sales Agreement between Companies and Allegheny Energy Supply Company, LLC under the Companies' Rate Schedule MBSS.

Comment date: July 11, 2000, in accordance with Standard Paragraph E at the end of this notice.

9. Louisville Gas and Electric Company/Kentucky Utilities Company

[Docket No. ER00-2898-000]

Take notice that on June 20, 2000, Louisville Gas and Electric Company (LG&E)/Kentucky Utilities (KU) (hereinafter Companies), tendered for filing an executed unilateral transmission service agreement with DTE Energy Trading, Inc. (DTE). This agreement allows DTE to take firm point-to-point transmission service from LG&E/KU.

Comment date: July 11, 2000, in accordance with Standard Paragraph E at the end of this notice.

10. Allegheny Energy Service Corporation on behalf of Allegheny Energy Unit 1 and Unit 2, L.L.C.

[Docket No. ER00-2899-000]

Take notice that on June 20, 2000, Allegheny Energy Service Corporation on behalf of Allegheny Energy Unit 1 and Unit 2, L.L.C., tendered for filing Service Agreement No. 1 to add one (1) new Customer to the Market Rate Tariff under which Allegheny Energy Unit 1 and Unit 2, L.L.C., offers generation services.

Allegheny Energy Unit 1and Unit 2, L.L.C., requests a waiver of notice requirements to make service available as of November 27, 1999 to Allegheny Energy Supply Company, LLC.

Copies of the filing have been provided to the Public Utilities Commission of Ohio, the Pennsylvania Public Utility Commission, the Maryland Public Service Commission, the Virginia State Corporation Commission, the West Virginia Public Service Commission, and all parties of record.

Comment date: July 11, 2000, in accordance with Standard Paragraph E at the end of this notice.

11. Allegheny Energy Service Corporation on behalf of Allegheny Energy Supply Company, LLC

[Docket No. ER00-2900-000]

Take notice that on June 20, 2000, Allegheny Energy Service Corporation on behalf of Allegheny Energy Supply Company, LLC (Allegheny Energy Supply), tendered for filing Service Agreement No. 77 to add one (1) new Customer to the Market Rate Tariff under which Allegheny Energy Supply offers generation services.

Allegheny Energy Supply requests a waiver of notice requirements to make service available as of June 19, 2000 to MIECO Inc.

Copies of the filing have been provided to the Public Utilities Commission of Ohio, the Pennsylvania Public Utility Commission, the Maryland Public Service Commission, the Virginia State Corporation Commission, the West Virginia Public Service Commission, and all parties of record.

Comment date: July 11, 2000, in accordance with Standard Paragraph E at the end of this notice.

12. Allegheny Energy Service Corporation, on behalf of Allegheny Energy Supply Company, LLC

[Docket No. ER00-2902-000]

Take notice that on June 20, 2000, Allegheny Energy Service Corporation on behalf of Allegheny Energy Supply Company, LLC (Allegheny Energy Supply Company), tendered for filing First Revised Service Agreement No. 61 to complete the filing requirement for one (1) new Customer of the Market Rate Tariff under which Allegheny Energy Supply offers generation services.

Allegheny Energy requests a waiver of notice requirements to make service available as of March 15, 2000, to Duke Power, a division of Duke Energy Corporation.

Copies of the filing have been provided to the Public Utilities Commission of Ohio, the Pennsylvania Public Utility Commission, the Maryland Public Service Commission, the Virginia State Corporation Commission, the West Virginia Public Service Commission, and all parties of record.

Comment date: July 11, 2000, in accordance with Standard Paragraph E at the end of this notice.

13. Allegheny Energy Service Corporation on behalf of Allegheny Energy Supply Company, LLC

[Docket No. ER00-2901-000]

Take notice that on June 20, 2000, Allegheny Energy Service Corporation on behalf of Allegheny Energy Supply Company, LLC (Allegheny Energy Supply), tendered for filing Service Agreement No. 78 to add one (1) new Customer to the Market Rate Tariff under which Allegheny Energy Supply offers generation services.

Allegheny Energy Supply requests a waiver of notice requirements to make service available as of May 26, 2000 to FPL Energy Power Marketing, Inc.

Copies of the filing have been provided to the Public Utilities Commission of Ohio, the Pennsylvania Public Utility Commission, the Maryland Public Service Commission, the Virginia State Corporation Commission, the West Virginia Public Service Commission, and all parties of record.

Comment date: July 11, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-16559 Filed 6-29-00; 8:45 am]

BILLING CODE 6717-01-P